DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing in the U.S. to achieve expeditious commercialization of results of federally-funded research and development.

FOR FURTHER INFORMATION CONTACT: Licensing information may be obtained by emailing the indicated licensing contact at the National Heart, Lung, and Blood, Office of Technology Transfer and Development Office of Technology Transfer, 31 Center Drive Room 4A29, MSC2479, Bethesda, MD 20892-2479; telephone: 301-402-5579. A signed Confidential Disclosure Agreement may be required to receive any unpublished information.

SUPPLEMENTARY INFORMATION: Technology description follows.

PET Imaging of fungal infections

Available for licensing and commercial development are patent rights covering a PET imaging method for fungal infections, for example, Aspergillus fumigatus. Currently, there is a lack of imaging agents specific for fungal infections. L-Rhamnose is selectively uptaken by live A. fumigatus. PET imaging experiments showed a 39% increase in uptake by infected mice as opposed to control mice when administered 18F-deoxyrhamnose. As such, the instant imaging agent has potential as a fungal infection diagnostic imaging agent.

Potential Commercial Applications:

• Imaging of live fungal infections

• Imaging of live infections of A. fumigatus

Development Stage:

• Preclinical

• Mouse data

Inventors: Dima Hammoud (NIHCC), Rolf Swenson (NHLBI), Xiang (Sean) Zhang (NHLBI), Swati Shah (CC) and Peter Richard Williamson (NIAID).

Intellectual Property: HHS Reference No. E-163-2019-0-US-01 ; U.S Patent Applications 62/882,023 filed August 2, 2019; Klarquist Ref. No. 4239-103017-01.

Licensing Contact: Michael Shmilovich, Esq, CLP; 301-435-5019; shmilovm@mail.nih.gov.

Dated: September 3, 2019.
Michael A. Shmilovich,
Senior Licensing and Patenting Manager, National Heart, Lung, and Blood Institute, Office of Technology Transfer and Development.

[FR Doc. 2019-19951 Filed 9-13-19; 8:45 am]

BILLING CODE 4140-01-P